DEPARTMENT OF DEFENSE

Office of the Secretary of Defense

Establishment of the Defense Advisory Board for Employer Support of the Guard and Reserve

AGENCY: Department of Defense.

ACTION: Notice of establishment.

SUMMARY: The Defense Advisory Board for Employer Support of the Guard and Reserve (ESGR) is being established in consonance with the public interest and in accordance with the provisions of Pub. L. 92-463, the “Federal Advisory Committee Act,” title 5 U.S.C., Appendix 2. The ESGR will provide advice to the Secretary of Defense about issues concerning Reservists and their civilian employers, to include recommending policies and priorities for employer support actions and programs.

The board will be composed of a national cross-section of industry, public and private sector leaders whose understanding of employer issues, as they are affected by employee membership in the guard and reserve, will serve as a foundation for providing input and recommendations to the Secretary of Defense on guard and reserve employment issues of public and private employers.

FOR FURTHER INFORMATION CONTACT: Contact Mr. Michael E. Naylon, 703-696-1386.

Dated: August 11, 2003.
Patricia Toppings,
Alternate OSD Federal Register Liaison Officer, Department of Defense.

[FR Doc. 03-20868 Filed 8-14-03; 8:45 am]

BILLING CODE 5001-08-M